DEPARTMENT OF COMMERCE

National Oceanic and Atmospheric Administration

50 CFR Part 648

[Docket No. 240717-0198]

RIN 0648-BM79

Fisheries of the Northeastern United States; 2024-2026 Specifications for the Mackerel, Squid, and Butterfish Fishery Management Plan

AGENCY: National Marine Fisheries Service (NMFS), National Oceanic and Atmospheric Administration (NOAA), Commerce.

ACTION: Final rule.

SUMMARY: NMFS approves and implements the 2024-2026 specifications for the Mackerel, Squid, and Butterfish Fishery Management Plan, as recommended by the Mid-Atlantic Fishery Management Council. This final rule sets the 2024 Illex and longfin squid specifications, and projects the 2025 Illex and 2025-2026 longfin squid specifications. This rule also reaffirms the 2024 butterfish and Atlantic chub mackerel specifications and the previously published projected 2025 chub mackerel specifications. These specifications establish allowable harvest levels that will prevent overfishing, consistent with the most recent scientific information.

DATES: Effective August 22, 2024.

ADDRESSES: A Supplemental Information Report (SIR) was prepared for these specifications. Copies of the SIR and other relevant environmental documentation are available on request from Dr. Christopher M. Moore, Executive Director, Mid-Atlantic Fishery Management Council, Suite 201, 800 North State Street, Dover, DE 19901. The SIR is also accessible via the internet at https://www.mafmc.org/supporting-documents.

Copies of the small entity compliance guide are available from Michael Pentony, Regional Administrator, NMFS, Greater Atlantic Regional Fisheries Office, 55 Great Republic Drive, Gloucester, MA 01930-2298, or available on the internet at https://www.greateratlantic.fisheries.noaa.gov.

FOR FURTHER INFORMATION CONTACT: Maria Fenton, Fishery Policy Analyst, (978) 281-9196.

SUPPLEMENTARY INFORMATION:

General Background

The Mid-Atlantic Fishery Management Council (Council) manages Atlantic mackerel, Illex squid, longfin squid, butterfish, and Atlantic chub mackerel under the Mackerel, Squid, and Butterfish Fishery Management Plan (FMP). The regulations implementing the FMP at 50 CFR part 648, subpart B, require the Council's Mackerel, Squid, and Butterfish Monitoring Committee to develop specification recommendations for each species based upon the acceptable biological catch (ABC) advice of the Council's Scientific and Statistical Committee (SSC). The ABC is the level of catch that accounts for scientific uncertainty in the estimate of the stock's defined overfishing limit (OFL). Specifications are the combined suite of commercial and recreational catch levels and management measures necessary to prevent such catch levels from being exceeded. Mackerel, Squid, and Butterfish FMP regulations require the specification of annual catch limits (ACL) and accountability measure (AM) provisions for butterfish and chub mackerel. Both squid species are exempt from the ACL/AM requirements because they have a life cycle of less than 1 year. In addition, the regulations require the specification of domestic annual harvest (DAH), the butterfish mortality cap in the longfin squid fishery, and initial optimum yield (IOY) for both squid species. As part of this process, the Council sets specifications for up to 3 years. These specifications are reviewed annually and may be revised by the Council based on updated information.

On July 27, 2023 (88 FR 48389), NMFS published a final rule in the Federal Register implementing 2023 specifications for the chub mackerel, butterfish, longfin squid, and Illex squid fisheries. This included projected 2024 butterfish specifications and projected 2024-2025 chub mackerel specifications. The Council's SSC met in March, May, and July 2023 to consider the 2024 longfin squid, Illex squid, chub mackerel, and butterfish specifications based upon the latest information. At those meetings, the SSC concluded that no adjustments to these species' ABCs were warranted. The Council finalized its recommendations for the 2024 Illex and longfin squid specifications and projected 2025 Illex and 2025-2026 longfin squid specifications during its April and August 2023 meetings. The Council reaffirmed the 2024 butterfish and 2024 and projected 2025 Atlantic chub mackerel specifications during its June 2023 meeting. During its December 2023 meeting, the Council also finalized recommendations for the 2024 and projected 2025 Atlantic mackerel specifications; however, those specifications were recently finalized through a separate final rule due to additional timing concerns (89 FR 25820, April 12, 2024).

Final 2024 and Projected 2025 Illex Squid Specifications

The final 2024 and projected 2025 Illex squid specifications are identical to what was in place in 2023, in alignment with the Council's recommendation (table 1). NMFS and the Council will review the Illex squid specifications during future annual specifications processes following data updates each spring. The 2025 specifications projected here could change based on new information.

Table 1—Final 2024 and Projected 2025 Illex Squid Specifications
[mt]
Specification | 2024 | 2025 (projected)
OFL | Unknown | Unknown
ABC | 40,000 | 40,000
Commercial Discard Set-Aside | 1,369 (3.42%) | 1,369 (3.42%)
Initial optimum yield (IOY) | 38,631 | 38,631
Domestic annual harvest (DAH)/domestic annual processing (DAP) | 38,631 | 38,631

Final 2024 and Projected 2025-2026 Longfin Squid Specifications

The final 2024 and projected 2025-2026 longfin squid specifications are nearly identical to what was in place in 2023, in alignment with the Council's recommendation. The only change is a slight increase in the longfin squid discard rate (from 2 percent to 2.16 percent). The background for this change is discussed in the proposed rule to implement these specifications (89 FR 28713, April 19, 2024), and therefore is not repeated here. The longfin squid IOY, DAH, and DAP are calculated by deducting a discard set-aside, calculated using the discard rate, from the ABC. The 0.16-percent increase in the discard rate results in a 0.17-percent decrease in the commercial quota (table 2). NMFS and the Council will review the longfin squid specifications during future annual specifications processes following data updates each spring. The 2025-2026 specifications projected here could change based on new information.

Table 2—Final 2024 and Projected 2025-2026 Longfin Squid Specifications
[mt]
Specification | 2024 | 2025-2026 (projected)
OFL | Unknown | Unknown
ABC | 23,400 | 23,400
Commercial Discard Set-Aside | 506.3 (2.16%) | 506.3 (2.16%)
IOY | 22,893.7 | 22,893.7
DAH/DAP | 22,893.7 | 22,893.7

The percentage of the longfin squid quota allocated to each trimester during 2024-2026 remains unchanged from what was in place in 2023 (table 3).

Table 3—2024-2026 Longfin Squid Quota Trimester Allocations
Trimester | Percent | Metric tons
I (Jan-Apr) | 43 | 9,844.3
II (May-Aug) | 17 | 3,891.9
III (Sep-Dec) | 40 | 9,157.5
Total | 100 | 22,893.7

Reaffirmation of 2024 Butterfish Specifications

As part of the final rule implementing 2023-2025 specifications for the Mackerel, Squid, and Butterfish FMP (88 FR 48389, July 27, 2023), NMFS projected 2024 butterfish specifications that would decrease the ABC and available quota by 12.7 percent relative to 2023. Even with this reduction, the projected 2024 butterfish quota was still above recent catch levels. This final rule reaffirms the previously projected 2024 butterfish specifications, in alignment with the Council's recommendation, as no new information suggests a need to change.

Table 4—Reaffirmed 2024 Butterfish Specifications
[mt]
Specification | 2024
OFL | 16,096
ABC/ACL | 15,764
Annual Catch Target (ACT) | 14,976
Assumed Discards | 1,248
Total Discard Set-Aside (All Sources) | 5,132
Butterfish Cap in Longfin Fishery | 3,884
DAH | 9,844

The percentage of the butterfish mortality cap allocated to the longfin squid fishery during each trimester in 2024 remains unchanged from what was in place during 2023 (table 5).

Table 5—2024 Allocation of the Butterfish Mortality Cap Among Longfin Squid Trimesters
Trimester | Percent | Metric tons
I (Jan-Apr) | 43 | 1,670
II (May-Aug) | 17 | 660
III (Sep-Dec) | 40 | 1,554
Total | 100 | 3,844

Reaffirmation of 2024 and Projected 2025 Atlantic Chub Mackerel Specifications

Amendment 21 to the FMP implemented chub mackerel specifications for the 2020-2022 fishing years (85 FR 47103, August 4, 2020). The Council reevaluated these specifications during its June 2022 meeting and decided to make no adjustments for the 2023-2025 fishing years. The Council reevaluated these specifications again during its June 2023 meeting and decided to make no adjustments for the 2024 fishing year. This final rule reaffirms the previously projected 2024 specifications, and projects the 2025 chub mackerel specifications, in alignment with the Council's recommendation (table 6). No new information suggests a need to change the specifications for 2024. The 2025 specifications projected here could change based on new information.

Table 6—Reaffirmed 2024 and Projected 2025 Chub Mackerel Specifications
[mt]
Specification | 2024 | 2025 (projected)
ABC | 2,300 | 2,300
ACL | 2,262 | 2,262
ACT | 2,171 | 2,171
Total Allowable Landings | 2,041 | 2,041

Proposed Rule Comments

We published a proposed rule for the 2024-2026 specifications on April 19, 2024 (89 FR 28713), and the public comment period ended on May 20, 2024. We did not receive any public comments on the proposed rule.

Changes From the Proposed Rule

There are no changes being made to the proposed specifications. However, this final rule contains several corrections and an additional table that did not appear in the proposed rule.

The 2024 Illex squid specifications shown in table 3 in the proposed rule are correct. However, the proposed rule text incorrectly stated that the discard rate used to calculate the Illex squid discard set-aside in 2024 is lower than rate that was used in 2023, resulting in a lower 2024 commercial discard set-aside and a higher commercial quota. The recommended 2024 specifications (including the discard rate, the discard set-aside, and the commercial quota) are identical to what was in place in 2023. This final rule clarifies that there are no changes in the 2024 Illex squid specifications relative to 2023.

The 2024-2026 longfin squid quota trimester allocations shown as percentages (column 2) in table 2 in the proposed rule are correct. However, the allocations shown as metric tons (column 3) in table 2 are incorrect. Those tonnages were calculated based on the 2023 commercial quota (22,932 mt) instead of the 2024 commercial quota (22,893.7 mt). Table 3 in this final rule corrects these calculations.

The proposed rule did not contain a table showing the 2024 allocation of the butterfish mortality cap among longfin squid trimesters. Table 5 was added to this final rule to provide that information along with the rest of the specifications.

Classification

NMFS is issuing this rule pursuant to section 305(d) of the Magnuson-Stevens Act. Consistent with Magnuson-Stevens Act section 305(d), this action is necessary to carry out the Mackerel, Squid, and Butterfish FMP in accordance with the FMP's implementing regulations. The NMFS Assistant Administrator has determined that this final rule is consistent with the Mackerel, Squid, and Butterfish FMP, other provisions of the Magnuson-Stevens Act, and other applicable law.

This final rule has been determined to be not significant for purposes of Executive Order (E.O.) 12866.

This final rule does not contain policies with federalism or “takings” implication, as those terms are defined in E.O. 13132 and E.O. 12630, respectively.

This final rule does not contain any changes to collection-of-information requirements subject to the Paperwork Reduction Act. The existing collection of information requirements would continue to apply under OMB Control Number: 0648-0229, Greater Atlantic Region Dealer Purchase Reports.

The Chief Counsel for Regulation of the Department of Commerce certified to the Chief Counsel for Advocacy of the Small Business Administration (SBA) during the proposed rule stage that this action would not have a significant economic impact on a substantial number of small entities. The factual basis for the certification was published in the proposed rule and is not repeated here. No comments were received regarding this certification. As a result, a final regulatory flexibility analysis was not required and none was prepared.

List of Subjects in 50 CFR Part 648

Fisheries, Fishing, Reporting and recordkeeping requirements.

Dated: July 17, 2024.
Samuel D. Rauch, III,
Deputy Assistant Administrator for Regulatory Programs, National Marine Fisheries Service.

[FR Doc. 2024-16111 Filed 7-22-24; 8:45 am]

BILLING CODE 3510-22-P